COURT SERVICES AND OFFENDER SUPERVISION AGENCY FOR THE DISTRICT OF COLUMBIA

Privacy Act of 1974; Notice of Amended System

Pursuant to the provisions of the Privacy Act of 1974 (5 U.S.C. 552a), the Court Services and Offender Supervision Agency for the District of Columbia (CSOSA) gives notice of proposed amendments to its previously published system of records on the Supervision Offender Case File (CSOSA-9).

The system of records is being amended to add to the existing categories of records and make editorial or organization changes, to add other identifiers that may be used to retrieve information, and to update the provisions for storage and safeguards and the citation for the authority for maintenance of the system.

More specifically, the categories of records would be amended to include electronic monitoring information (for example, Global Positioning System (GPS) data) and United States Parole Commission decisions. In addition, the routine use provision in Section B, which applies to the disclosure of information to “any civil or criminal law enforcement agency, whether Federal, state, or local or foreign, which requires information relevant to a civil or criminal investigation unless prohibited by law or regulation” would be amended by adding the qualifying phrase “to the extent necessary to accomplish their assigned duties” to conform with the language set forth in the comparable routine use provision in CSOSA's system of records for Supervision & Management Automated Record Tracking (CSOSA-11). The routine uses would also be amended for stylistic reasons to make use of parallel construction and to redesignate Section I. The Retrievability provision is being amended to note that Metropolitan Police Department, D.C. Department of Corrections, and Federal Bureau of Investigation identification numbers can be used to retrieve information.

Finally, the Storage provisions and the Safeguards provisions are being amended to note the special requirements for electronic monitoring information. The citation for the authority for maintenance of the system would be amended to include CSOSA's enabling legislation which is the underlying programmatic authority for collecting, maintaining, and using the information.

In accordance with Title 5 U.S.C. 552a(e)(4) and (11), the public is given a 30-day period in which to comment on this notice; and the Office of Management and Budget (OMB), which has oversight responsibilities under the Act, requires a 40-day period in which to conclude its review of the system. Therefore, please submit any comments to Renee Barley, FOIA Officer, Office of the General Counsel, Court Services and Offender Supervision Agency for the District of Columbia, 633 Indiana Avenue, NW., Washington, DC 20004 by April 26, 2006. The amended system of records will be effective, as proposed, on May 11, 2006 unless CSOSA determines, upon review of the comments received, that changes should be made. In that event, CSOSA will publish a revised notice in the Federal Register.

In accordance with Privacy Act requirements, CSOSA has provided a report on the amended systems to OMB and Congress.

The amended system of records is given below in its entirety for the convenience of the reader.

Dated: March 22, 2006.
Paul A. Quander, Jr.,
Director, Court Services and Offender Supervision Agency.

Court Services and Offender Supervision Agency for the District

CSOSA-9

System name:

Supervision Offender Case File.

Security classification:

None.

System location:

Court Services and Offender Supervision Agency, 633 Indiana Avenue, NW., Washington, DC 20004. See 28 CFR part 800, Appendix A for field office addresses.

Categories of individuals covered by the system:

Individuals currently or formerly under Agency supervision.

Categories of records in the system:

The files may contain but are not limited to presentence information, sentencing information, institutional adjustment (parole only), treatment records, compliance orders, field notes, PD-163 (police report), electronic monitoring information (for example, Global Positioning System (GPS) data), judgment and commitment orders, program reports, psychiatric reports, assessments, Parole Board and United States Parole Commission and judicial decisions and post-release information to include risk assessment, substance abuse testing, referrals, offender reporting forms, progress and behavior reports and correspondence.

Authority for maintenance of the system:

5 U.S.C. 301; 111 Stat. 748, Pub. L. 105-33, § 11233; D.C. Official Code § 24-133(c).

Purpose(s):

Information is maintained and used to determine risk/needs assessment, supervision documentation, case management and documentation of the offenders' compliance with release conditions.

Routine uses of records maintained in the system, including categories of users and the purposes of such uses:

A. Disclosure to a congressional office or member or D.C. Council member in response to an inquiry made at the request of an individual currently or formerly under CSOSA supervision.

B. Disclosure to any civil or criminal law enforcement agency, whether Federal, state, or local or foreign, which requires information relevant to a civil or criminal investigation to the extent necessary to accomplish their assigned duties unless prohibited by law or regulation.

C. Disclosure to a Federal, state, local, foreign, or international law enforcement agency to assist in the general crime prevention and detection efforts of the recipient agency or to provide investigative leads to such agency.

D. Disclosure to a source from which information is requested in the course of an investigation, to the extent necessary to identify the individual, inform the source of the nature and purpose of the investigation and to identify the type of information requested unless prohibited by law or regulation.

E. Disclosure to the appropriate Federal, state, local, foreign or other public authority responsible for investigating, prosecuting, enforcing or implementing a statute, rule, regulation, or order where CSOSA becomes aware of an indication of a violation or potential violation of civil or criminal law or regulation unless prohibited by law or regulation.

F. Disclosure to a contract or treatment facility that provides services to individuals under CSOSA supervision to the extent necessary to accomplish its assigned duties unless prohibited by law or regulation.

G. Disclosure to Federal, local and state court or community correction officials to the extent necessary to permit them to accomplish their assigned duties in any criminal matter unless prohibited by law or statute.

H. Disclosure to employers or prospective employers concerning an individual's criminal history and other pertinent information relating to prospective or current employment of the individual unless prohibited by law or regulation.

I. Disclosure to the National Archives and Records Administration and to the General Services Administration during a records management inspection conducted under 44 U.S.C. 2904 and 2906 unless prohibited by law or regulation.

Disclosure to consumer reporting agencies:

None.

Policies and practices for storing, retrieving, accessing, retaining, and disposing of records in the system:

Storage:

GPS data is hosted on servers that are managed by contract companies. Other information is stored manually in file folders or electronically on computers.

Retrievability:

Information can be retrieved by the name of the individual or by the DC Department of Corrections (DCDC) number, the Metropolitan Police Department (PDID) number, or the Federal Bureau of Investigation number.

Safeguards:

The servers maintaining GPS data are located in a locked room; access to the servers is restricted, and end users must have a valid ID and password to access the data. Other information is maintained manually in file cabinets which are kept in locked offices.

Retention and disposal:

Information will be maintained for 20 years after expiration of supervision.

System manager(s) and address:

Associate Director, Community Supervision Services, Court Services and Offender Supervision Agency, 300 Indiana Avenue, NW., Room 2132, Washington, DC 20001.

Notification procedure:

Inquiries concerning this system should be directed to the Freedom of Information Act Office, Court Services and Offender Supervision Agency, 633 Indiana Avenue, NW., Washington, DC 20004.

The major part of this system is exempt from this requirement under 5 U.S.C. 552a(j).

Record access procedures:

The major part of this system is exempt from this requirement under 5 U.S.C. 552a(j). To the extent that this system of records is not subject to exemption, it is subject to access and contest. A determination as to exemption shall be made at the time a request for access is received.

Contesting record procedures:

Same as Records Access Procedures above.

Record source categories:

(1) Individual under CSOSA supervision; (2) Federal, state and local law enforcement agencies; (3) state and Federal community correction entities; (4) relatives, friends, and other community individuals; (5) evaluation, observations, and findings of agency staff and treatment staff; and (6) employers and/or social service agencies.

Exemptions claimed for the system:

This system is exempt from 5 U.S.C. 552a(c)(3) and (4), (d), (e)(1), (2), (3), (4)(G) through (4)(I), (5), and (8), (f) and (g) of the Privacy Act pursuant to 5 U.S.C. 552a(j)(2). In addition, the system has been exempted from subsections (c)(3), (d) and (e)(1) pursuant to subsections (k)(1) and (k)(2). Rules have been promulgated in accordance with the requirements of 5 U.S.C. 553(b), (c) and (e) and have been published in the Federal Register.

[FR Doc. E6-4416 Filed 3-24-06; 8:45 am]

BILLING CODE 3129-01-P